DEPARTMENT OF DEFENSE

Office of the Secretary

Strategic Environmental Research and Development Program, Scientific Advisory Board; Notice of Federal Advisory Committee Meeting

AGENCY: Department of Defense.

ACTION: Notice.

SUMMARY: The Department of Defense is publishing this notice to announce an open meeting of the Strategic Environmental Research and Development Program, Scientific Advisory Board (SAB). This meeting will be open to the public.

DATES: Wednesday, June 8, 2016, from 8:30 a.m. to 5:00 p.m.

ADDRESSES: 801 North Glebe Road, Arlington, VA 22203.

FOR FURTHER INFORMATION CONTACT: Dr. Herb Nelson, SERDP Office, 4800 Mark Center Drive, Suite 17D08, Alexandria, VA 22350-3605; or by telephone at (571) 372-6565.

SUPPLEMENTARY INFORMATION: This meeting is being held under the provisions of the Federal Advisory Committee Act of 1972 (5 U.S.C. Appendix, as amended), the Government in the Sunshine Act of 1976 (5 U.S.C. 552b, as amended), and 41 CFR 102-3.150. This notice is published in accordance with Section 10(a)(2) of the Federal Advisory Committee Act (Pub. L. 92-463).

Pursuant to 5 U.S.C. 552b and 41 CFR 102-3.140 through 102-3.165, and the availability of space, this meeting is open to the public. Seating is on a first-come basis.

The purpose of the June 8, 2016 meeting is to review continuing and new start research and development projects requesting Strategic Environmental Research and Development Program funds as required by the SERDP Statute, U.S. Code—Title 10, Subtitle A, Part IV, Chapter 172, § 2904. The full agenda follows:

Agenda for June 8, 2016

8:30 a.m. Convene/Opening Remarks, Approval of October 2015 Minutes—Dr. Joseph Hughes, Chair

8:35 a.m. Program Update—Dr. Herb Nelson, Acting Executive Director

8:50 a.m. Resource Conservation and Climate Change Overview—Dr. Herb Nelson, Acting Executive Director

9:00 a.m. RC:2245: Defense Coastal/Estuarine Research Program (DCERP)—Dr. Patricia Cunningham, RTI International, Research Triangle Park, NC

9:45 a.m. Break

10:00 a.m. RC:2245: Defense Coastal/Estuarine Research Program (DCERP)—Dr. Patricia Cunningham, RTI International, Research Triangle Park, NC

12:00 p.m. Lunch

1:00 p.m. Munitions Response Overview—Dr. Herb Nelson, Munitions Response, Program Manager

1:10 p.m. 16 MR04-001 (MR-2653): Multichannel Detection and Acoustic Color-Based Classification of Underwater UXO in Sonar (FY16 New Start)—Dr. Mahmood, Azimi-Sadjadi, Colorado State University, Fort Collins, CO

1:55 p.m. Break

2:05 p.m. Environmental Restoration Overview—Dr. Andrea Leeson, Environmental Restoration, Program Manager

2:10 p.m. 16 ER02-006 (ER-2625): Development of Toxicity Data to Support Toxicity Reference Values for Perfluorinated Compounds (FY16 New Start)—Dr. Michael Quinn, U.S. Army Public Health Command, Aberdeen Proving Ground, MD

2:55 p.m. Break

3:05 p.m. Strategy Session—Dr. Herb Nelson, Acting Executive Director

5:00 p.m. Public Discussion/Adjourn

Pursuant to 41 CFR 102-3.140, and section 10(a)(3) of the Federal Advisory Committee Act of 1972, the public or interested organizations may submit written statements to the Strategic Environmental Research and Development Program, Scientific Advisory Board. Written statements may be submitted to the committee at any time or in response to an approved meeting agenda.

All written statements shall be submitted to the Designated Federal Officer (DFO) for the Strategic Environmental Research and Development Program, Scientific Advisory Board. The DFO will ensure that the written statements are provided to the membership for their consideration. Contact information for the DFO can be obtained from the GSA's FACA Database at http://www.facadatabase.gov/. Time is allotted at the close of the meeting day for the public to make comments. Oral comments are limited to 5 minutes per person.

Dated: April 19, 2016.
Aaron Siegel,
Alternate OSD Federal Register Liaison Officer, Department of Defense.

[FR Doc. 2016-09408 Filed 4-21-16; 8:45 am]

BILLING CODE 5001-06-P